DEPARTMENT OF ENERGY

Federal Energy Regulatory Commission

18 CFR Parts 366, 367, 368, 369 and 375

[Docket No. RM06-11-000]

Financial Accounting, Reporting and Records Retention Requirements Under the Public Utility Holding Company Act of 2005

May 19, 2006.

AGENCY: Federal Energy Regulatory Commission, DOE.

ACTION: Notice of Proposed Rulemaking: Notice of Change in Date for Technical Conference.

SUMMARY: On April 21, 2006, the Commission issued Notice of Proposed Rulemaking in the above-docketed proceeding concerning Financial Accounting, Reporting and Records Retention Requirements Under the Public Utility Holding Company Act of 2005. (71 FR 28464 (2006). The Commission is rescheduling the date of the technical conference which is being held pursuant to the directives of the April 24, 2006, Notice of Proposed Rulemaking.

DATES: The conference previously scheduled for June 21, 2006 is rescheduled for July 11, 2006.

FOR FURTHER INFORMATION CONTACT: Julia A. Lake, Office of the General Counsel—Energy Markets and Reliability, Federal Energy Regulatory Commission, 888 First Street, NE., Washington, DC 20426. (202) 502-8370. Julia.lake@ferc.gov.

SUPPLEMENTARY INFORMATION: On April 21, 2006, the Federal Energy Regulatory Commission (Commission) announced a staff technical conference in the above-referenced proceeding to be held at the Federal Energy Regulatory Commission, 888 First Street, NE., Washington, DC 20426 in the Commission Meeting Room on June 21, 2006, from 9 a.m. until 4:30 p.m. EDT. This conference has now been rescheduled for July 11, 2006. All interested persons are invited to attend. There is no registration fee to attend.

The purpose of the conference remains the same. It is to identify the issues associated with the proposed Uniform System of Accounts for Centralized Service Companies, the proposed records retention requirements for holding companies and service companies, and the revised Form No. 60. The technical conference will develop information for use by Commission staff in preparing a final rule in this proceeding.

Interested persons wishing to participate in the technical conference are asked to notify Commission staff electronically at https://www.ferc.gov/whats-new/registration/usoa-06-21-speaker-form.asp by June 15, 2006.

Prospective attendees and participants are urged to watch for further notices; a detailed agenda will be issued in advance of the conference.

FERC conferences and meetings are accessible under section 508 of the Rehabilitation Act of 1973. For accessibility accommodations please send an e-mail to accessibility@ferc.gov or call toll free (866) 208-3372 (voice) or (202) 502-8659 (TTY), or send a fax to (202) 208-2106 with the required accommodations.

Questions about the conference should be directed to: Julia A. Lake, Office of the General Counsel—Energy Markets and Reliability, Federal Energy Regulatory Commission, 888 First Street, NE., Washington, DC 20426. (202) 502-8370. Julia.lake@ferc.gov.

Magalie R. Salas,
Secretary.

[FR Doc. 06-4999 Filed 5-31-06; 8:45 am]

BILLING CODE 6717-01-P